DEPARTMENT OF ENERGY

Federal Energy Regulatory Commission

Notice; Sunshine Act

April 27, 2005.

The following notice of meeting is published pursuant to section 3(a) of the government in the Sunshine Act (Pub. L. 94-409), 5 U.S.C 552b:

Agency Holding Meeting: Federal Energy Regulatory Commission.

Date and Time: May 4, 2005, 10 a.m.

Place: Room 2C, 888 First Street, NE., Washington, DC 20426.

Status: Open.

Matters to be Considered: Agenda.

Note: Items listed on the agenda may be deleted without further notice.

Contact Person for More Information: Magalie R. Salas, Secretary, telephone (202) 502-8400. For a recorded listing items stricken from or added to the meeting, call (202) 502-8627.

This is a list of matters to be considered by the Commission. It does not include a listing of all papers relevant to the items on the agenda; however, all public documents may be examined in the Public Reference Room.

888th—Meeting; May 4, 2005, Regular Meeting, 10 a.m.

ADMINISTRATIVE AGENDA

A-1.

Docket No. AD02-1-000, Agency Administrative Matters

A-2.

Docket No. AD02-7-000, Customer Matters, Reliability, Security and Market Operations

A-3.

Docket No. AD05-9-000, Summer Energy Market Assessment 2005

A-4.

Docket No. MO05-3-000, State of the Markets Reports

A-5.

Docket No. AD05-10-000, NERC Compliance Audits

MARKETS, TARIFFS, AND RATES—ELECTRIC

E-1.

Docket No. RM02-12-000, Standardization of Small Generator Interconnection Agreements and Procedures

E-2.

Docket No. ER96-2495-025, AEP Power Marketing, Inc.; ER97-4143-013, AEP Service Corporation; ER97-1238-020, CSW Power Marketing, Inc.; ER98-2075-019, CSW Energy Services, Inc.; ER98-542-015, Central and South West Services, Inc.; EL04-131-001

E-3.

Docket No. ER91-569-025, Entergy Services, Inc.; EL04-123-001

E-4.

Docket No. ER97-4166-018, Southern Companies Energy Marketing, Inc. and ER96-780-008, Southern Companies Services, Inc.; EL04-124-001

E-5.

Omitted

E-6.

Docket No. RM05-5-000, Standards for Business Practices and Communication Protocols for Public Utilities

E-7.

Docket No. EC05-65-000, International Transmission Company; EL05-94-000, ITC Holdings Corporation

E-8.

Omitted

E-9.

Docket No. ER98-1643-006, Portland General Electric Company; ER98-1643-007

E-10.

Docket No. ER05-688-000, Southwest Power Pool, Inc.

E-11.

Omitted

E-12.

Omitted

E-13.

Docket No. ER05-692-000, PJM Interconnection, L.L.C.

E-14.

Docket No. ER05-699-000, Xcel Energy Services, Inc

E-15.

Omitted

E-16.

Docket No. ER05-696-000, Entergy Services, Inc

E-17.

Docket No. ER05-703-000, Public Service Electric & Gas Company and PSEG Energy Resources & Trade LLC

E-18.

Docket No. ER05-286-000, American Electric Power Service Corporation; ER05-286-001

E-19.

Docket No. ER02-851-016, Southern Company Services, Inc.; ER02-851-018, ER04-151-000, ER04-151-001, ER04-780-000, ER04-780-001

E-20.

Docket No. ER01-687-003, Reliant Energy Aurora, LP; ER01-2398-007, Liberty Electric Power, LLC; ER03-745-002, Reliant Energy Bighorn, LLC; ER03-618-002, Reliant Energy Choctaw County, LLC; ER03-382-002, Reliant Energy Electric Solutions, LLC; ER01-3036-004, Reliant Energy Hunterstown, LLC; ER99-3143-001, Reliant Energy Indian River, LLC; ER00-1749-001, Reliant Energy Maryland Holdings, LLC, Reliant Energy Mid-Atlantic Power Holdings, LLC and Reliant Energy New Jersey Holdings, LLC; ER00-22-001, Reliant Energy Osceola, LLC; ER99-1801-006, Reliant Energy Services, Inc.; ER99-1801-005; ER99-2079-002, Reliant Energy Ormond Beach, LLC; ER01-3035-004, Reliant Energy Seward, LLC; ER00-1717-001, Reliant Energy Shelby County, LP; ER02-1762-002, Reliant Energy Solutions East, LLC; ER01-852-003, Twelvepole Creek, LLC; ER99-2082-002, Reliant Energy Coolwater, Inc.; ER02-2453-001; ER99-2081-002, Reliant Energy Ellwood, Inc.; ER02-2451-001; ER99-2083-002, Reliant Energy Etiwanda, Inc.; ER02-2450-001; ER99-2080-002, Reliant Energy Mandalay, Inc.; ER02-2452-001; ER02-2449-001, Reliant Energy Ormond Beach, Inc.; ER05-772-000, Reliant Energy Aurora, L.P.; ER05-773-000, Reliant Energy Shelby County, LP; ER05-143-001, Reliant Energy Florida, LLC

E-21.

Omitted

E-22.

Omitted

E-23.

Omitted

E-24.

Docket No. ER04-742-004, PJM Interconnection, L.L.C.; EL04-105-002

E-25.

Omitted

E-26.

Docket No. ER94-1188-033, LG&E Energy Marketing, Inc.; ER94-1188-034; ER94-1188-035; ER98-1278-008, WKE Station Two, Inc.; ER98-1278-009; ER98-1278-010; ER98-4540-002, Louisville Gas and Electric Company; ER98-4540-003; ER98-4540-004; ER98-1279-004, Western Kentucky Energy Corporation; ER98-1279-005; ER98-1279-006; EL05-99-000; ER99-1623-001, Kentucky Utilities Company; ER99-1623-003; ER99-1623-004

E-27.

Docket No. ER97-2801-005, PacifiCorp and PPM Energy, Inc.; ER03-478-004; EL05-95-000

E-28.

Docket No. ER96-1361-007, Atlantic City Electric Company; ER98-4138-003, Potomac Electric Power Company; ER99-2781-005, Delmarva Power & Light Company; ER99-2781-002; ER98-3096-009, PEPCO Energy Services, Inc.; ER98-3096-008; ER01-202-002, Potomac Power Resources, Inc.; ER01-202-001; ER00-1770-008, Conectiv Energy Supply, Inc.; ER00-1770-004, Conectiv Atlantic Generation, LLC and Conectiv Delmarva Generation, Inc.; ER02-453-004, Conectiv Bethlehem, Inc.; ER04-472-001, Fauquier Landfill Gas, LLC; ER04-529-001, Rolling Hills Landfill Gas, LLC

E-29.

Docket No. ER00-1952-002, Black Hills Colorado, LLC; ER00-1952-001; ER96-1635-009; Black Hills Pepperell Power Associates, Inc.; ER96-1635-008; ER05-789-000; ER99-2287-002, Black Hills Power, Inc.; ER99-2287-001; ER03-802-002, Black Hills Wyoming, Inc; ER01-1784-004 Fountain Valley Power, LLC; ER01-1784-005; ER99-1248-003, Harbor Cogeneration Company, LLC; ER99-1248-004; ER03-222-004, Las Vegas Cogeneration II, LLC

E-30.

Docket No. ER99-2251-002, Consolidated Edison Company of New York, Inc.; ER99-2252-003, Orange and Rockland Utilities, Inc.; ER98-2491-008, Consolidated Edison Energy, Inc.; ER97-705-013, Consolidated Edison Solutions, Inc.; ER02-2080-002, Ocean Peaking Power L.L.C.; ER02-2546-003, CED Rock Springs, Inc.; ER99-3248-005, Consolidated Edison Energy of Massachusetts, Inc.; ER99-1213-003, Lakewood Cogeneration, L.P.; ER01-1526-003, Newington Energy, L.L.C.

E-31.

Omitted

E-32.

Docket No. QF85-735-006, Calpine King City Cogen, LLC

E-33.

Docket No. EL05-50-000, Jersey Central Power & Light Company v. Atlantic City Electric Company, Delmarva Power & Light Company, PECO Energy Company and Public Service Electric and Gas Company

E-34.

Docket No. EL02-15-000, California Independent System Operator Corporation, California Electricity Oversight Board, Public Utilities Commission of the State of California, Pacific Gas and Electric Company, San Diego Gas & Electric Company, and Southern California Edison Company v. Cabrillo Power I LLC, Cabrillo Power II LLC, Duke Energy South Bay, LLC, Geysers Power Company, LLC, and Williams Energy Marketing and Trading Company; EL03-22-000, California Independent System Operator Corporation, California Electricity Oversight Board, Public Utilities Commission of the State of California, and San Diego Gas & Electric Company v. Cabrillo Power I LLC

E-35.

Docket No. ER02-1913-005, Nevada Power Company

E-36.

Docket No. ER04-230-009, New York Independent System Operator, Inc.

E-37.

Docket No. ER04-798-000, ISO New England Inc.; ER04-798-001

E-38.

Docket No. ER05-128-000, Duke Energy South Bay, LLC

E-39.

Docket No. ER05-14-000, Sierra Pacific Resources Operating Companies

E-40.

Docket No. ER03-997-000, Kansas City Power & Light Company; ER03-997-001; ER03-997-002

E-41.

Docket No. ER05-80-001, California Independent System Operator Corporation

E-42.

Docket No. ER98-2680-006, Duke Energy Moss Landing, LLC; ER98-2681-006, Duke Energy Morro Bay, LLC; ER98-2682-006, Duke Energy Oakland, LLC; ER99-1785-005, Duke Energy South Bay, LLC

E-43.

Docket No. ER05-316-001, FPL Energy Marcus Hook, L.P.

E-44.

Omitted

E-45.

Omitted

E-46.

Docket No. ER05-270-002, Dynegy Midwest Generation, Inc.; EL05-72-001

E-47.

Docket No. ER03-1046-005, California Independent System Operator Corporation; ER03-1046-006

E-48.

Docket No. ER03-1101-008, PJM Interconnection L.L.C.

E-49.

Omitted

E-50.

Omitted

E-51.

Docket No. EL00-95-122, San Diego Gas & Electric Company v. Sellers of Energy and Ancillary Services Into Markets Operated by the California Independent System Operator Corporation and the California Power Exchange; EL00-95-000; EL00-95-108; EL00-95-116 Docket No. EL00-98-109, Investigation of the Practices of the California Independent System Operator Corporation and the California Power Exchange; EL00-98-000; EL00-98-095; EL00-98-103; EL01-10-017, Puget Sound Energy, Inc., v. All Jurisdictional Sellers of Energy and/or Capacity in the Pacific Northwest; EL01-10-000; EL01-10-015; IN03-10-000, Investigation of Anomalous Bidding Behavior and Practices in the Western Markets; IN03-10-007; IN03-10-009; IN03-10-011; PA02-2-000, Fact-Finding Investigation of Potential Manipulation of Electric and Natural Gas Prices; PA02-2-023; PA02-2-024; PA02-2-026; EL03-152-005, Duke Energy Trading and Marketing LLC; EL02-71-005, State of California, ex rel., Bill Lockyer, Attorney General of the State of California v. British Columbia Power Exchange, et al.; EL03-179-005, Williams Energy Services Corporation; PA03-11-003, Williams Energy Marketing & Trading Company; IN01-3-003, AES Southland, Inc. and Williams Marketing & Trading Company

E-52.

Docket No. EL01-73-004, Northeast Texas Electric Cooperative, Inc., Rusk County Electric Cooperative, Inc., Upshur-Rural Electric Cooperative, Inc. and Wood County Electric Cooperative, Inc.

E-53.

Omitted

E-54.

Omitted

E-55.

Docket No. ER05-116-001, Pacific Gas and Electric Company; ER05-229-001; ER05-132-001; ER05-130-001

E-56.

Docket No. ER05-17-001, Trans-Elect NTD Path 15, LLC

E-57.

Docket No. ER04-689-002, Pacific Gas and Electric Company

E-58.

Docket No. ER04-1087-001, California Independent System Operator Corporation; ER04-1087-002

E-59.

Docket No. ER04-1144-002, New York Independent System Operator, Inc.; ER04-1144-003

E-60.

Docket No. ER04-415-003, Pacific Gas and Electric Company; ER04-415-004

E-61.

Docket No. ER04-691-026, Midwest Independent Transmission System Operator, Inc.; ER04-691-027; ER04-691-028; EL04-104-025, Public Utilities With Grandfathered Agreements in the Midwest ISO Region; EL04-104-026; EL04-104-027

E-62.

Docket No. PA04-10-000, Florida Power Corporation, Effingham County Power, LLC, MPC Generating, LLC, Progress Ventures, Inc., Rowan County Power, LLC, Walton County Power, LLC and Washington County Power, LLC; PA04-12-000, Carolina Power & Light Company, Effingham County Power, LLC, MPC Generating, LLC, Progress Ventures, Inc., Rowan County Power, LLC, Walton County Power, LLC and Washington County Power, LLC

E-63.

Docket No. EL05-51-000, Wisconsin Public Service Corporation v. Midwest Independent Transmission System Operator, Inc.

E-64.

Omitted

E-65.

Docket No. ER97-2846-003, Progress Energy, Inc.; ER97-2846-004; EL05-77-000; ER99-2311-005, Progress Energy Carolina; ER03-1383-002, DeSoto County Generating Co. LLC; ER01-2928-005, Progress Ventures Inc.; ER01-1418-002, Effingham County Power, LLC; ER02-1238-002, MPC Generating, LLC; ER01-1419-002, Rowan County Power, LLC; ER01-1310-003, Walton County Power, LLC; ER03-398-003, Washington County Power, LLC

MARKETS, TARIFFS, AND RATES—GAS

G-1.

Docket No. RP04-92-003, Georgia Public Service Commission; RP04-92-004

G-2.

Docket No. PL05-5-000, Inquiry Regarding Income Tax Allowances

G-3.

Docket No. RM96-1-026, Standards for Business Practices of Interstate Natural Gas Pipelines

G-4.

Docket No. PR05-6-000, Magic Valley Pipeline, L.P.; PR05-6-001

G-5.

Omitted

G-6.

Docket No. RP05-35-000, Transcontinental Gas Pipe Line Corporation

G-7.

Docket No. RP05-216-000, TransColorado Gas Transmission Company

G-8.

Omitted

G-9.

Docket No. RP04-314-001, Colorado Interstate Gas Company; RP04-314-002

G-10.

Omitted

G-11.

Docket No. RP04-312-001 Young Gas Storage Company, Ltd.

G-12.

Docket No. RP04-255-005 Columbia Gas Transmission Corporation; RP04-255-004

G-13.

Omitted

G-14.

Docket No. RP04-328-001, El Paso Natural Gas Company

G-15.

Docket No. RP04-313-002, Wyoming Interstate Company, Ltd.; RP04-313-001

G-16.

Omitted

G-17.

Docket No. RP03-356-002, Southern Star Central Gas Pipeline, Inc.

G-18.

Docket No. RM04-4-000, Creditworthiness Standards for Interstate Natural Gas Pipelines

G-19.

Omitted

G-20.

Docket No. RP04-91-003, Questar Pipeline Company; RP04-91-004; RP05-104-001

G-21.

Docket No. RP05-164-001, Equitrans, L.P.

ENERGY PROJECTS—HYDRO

H-1.

Docket No. P-459-135, Duncan's Point Lot Owners Association, Inc., Duncan's Point Homeowners Association, Inc., and Nancy A. Brunson, Juanita Brackens, Helen Davis, and Pearl Hankins, individually v. Union Electric Company d/b/a AmerenUE; EL05-73-000

H-2.

Docket No. P-2177-056, Georgia Power Company

H-3.

Docket No. P-2180-009, PCA Hydro, Inc.

H-4.

Docket No. P-2543-066, Clark Fork and Blackfoot, LLC

H-5.

Docket No. P-2816-031, North Hartland, LLC; P-2816-032

H-6.

Docket No. P-11659-002, Gustavus Electric Company; P-11659-003

H-7.

Docket No. P-2232-479, Duke Energy Corporation

ENERGY PROJECTS—CERTIFICATES

C-1.

Docket No. CP02-396-009, Greenbrier Pipeline Company, L.L.C.

Linda Mitry,
Deputy Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-8920 Filed 4-29-05; 4:09 pm]

BILLING CODE 6717-01-P